DEPARTMENT OF TRANSPORTATION

Pipeline and Hazardous Materials Safety Administration

[Docket No. PHMSA-2025-0008 (Notice No. 2025-02)]

Hazardous Materials: Information Collection Activities

AGENCY: Pipeline and Hazardous Materials Safety Administration (PHMSA), DOT.

ACTION: Notice and request for comments.

SUMMARY: In accordance with the Paperwork Reduction Act of 1995, PHMSA invites comments on three Office of Management and Budget (OMB) control numbers pertaining to hazardous materials transportation. PHMSA intends to request renewal and extension for these three control numbers from OMB.

DATES: Interested persons are invited to submit comments on or before May 9, 2025.

ADDRESSES: You may submit comments identified by the Docket Number PHMSA-2025-0008 (Notice No. 2025-02) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2025-0008) for this notice at the beginning of the comment. To avoid duplication, please use only one of these four methods. All comments received will be posted without change to the Federal Docket Management System (FDMS) and will include any personal information you provide.

Requests for a copy of an information collection should be directed to Steven Andrews, Standards and Rulemaking Division, (202) 366-8553, ohmspra@dot.gov, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to inform its rulemaking process. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Please mark each page of your submission containing CBI as “PROPIN” for “proprietary information.” PHMSA will treat such marked submissions as confidential under the FOIA, and they will not be placed in the public docket of this notice. Submissions containing CBI should be sent to Steven Andrews, Standards and Rulemaking Division, and addressed to the Pipeline and Hazardous Materials Safety Administration, U.S. Department of Transportation, 1200 New Jersey Avenue SE, Washington, DC 20590-0001 or ohmspra@dot.gov. Comments received by PHMSA which are not specifically designated as “CBI” will be placed in the public docket for this notice.

FOR FURTHER INFORMATION CONTACT: Steven Andrews, Standards and Rulemaking Division, (202) 366-8553, ohmspra@dot.gov, Pipeline and Hazardous Materials Safety Administration, U.S. Department of Transportation, 1200 New Jersey Avenue SE, Washington, DC 20590-0001.

SUPPLEMENTARY INFORMATION: Section 1320.8(d), title 5, Code of Federal Regulations (CFR) requires the Pipeline and Hazardous Materials Safety Administration (PHMSA) to provide interested members of the public and affected agencies an opportunity to comment on information collection and recordkeeping requests. This notice identifies information collection requests PHMSA will be submitting to OMB for renewal and extension. These information collections are contained in 49 CFR 171.6 of the Hazardous Materials Regulations (HMR; 49 CFR parts 171 through 180). PHMSA has revised burden estimates, where appropriate, to reflect current reporting levels or adjustments based on changes in proposed or final rules published since the information collections were last approved. The following information is provided for each information collection: (1) title of the information collection, including former title if a change is being made; (2) OMB control number; (3) summary of the information collection activity; (4) description of affected public; (5) estimate of total annual reporting and recordkeeping burden; and (6) frequency of collection. PHMSA will request a 3-year term of approval for each information collection activity and will publish a notice in the Federal Register upon OMB's approval. PHMSA requests comments on the following information collections:

Title: Radioactive (RAM) Transportation Requirements.

OMB Control Number: 2137-0510.

Summary: This OMB Control Number contains information collections involving the transportation of radioactive materials in commerce. Information collection requirements for RAM include: documenting testing and engineering evaluations for packages, documenting DOT 7A packages, revalidating foreign competent authority certifications, providing specific written instruction of exclusive use shipment controls, obtaining U.S. competent authority for package design, registering with U.S. competent authority as a user of a package, and requesting a U.S. competent authority for a special form of radioactive material. The following information collections and their burdens are associated with this OMB Control Number:

Information collection | Respondents | Total annual responses | Hours per response | Total annual burden hours
Document Test and Engineering Evaluation or Comparative Data for Packaging—Reporting | 50 | 100 | 40 | 4,000
DOT Specification 7A Package Documentation—Reporting | 50 | 100 | 80 | 8,000
DOT Specification 7A Package Documentation—Recordkeeping | 50 | 500 | 0.0833 | 41.67
Revalidation of Foreign Competent Authority Certification—Reporting | 25 | 25 | 80 | 2,000
Offeror Providing Specific Written Instruction of Exclusive Use Shipment Controls to the Carrier—Reporting | 100 | 2,000 | 0.5 | 1,000
Offeror Obtaining U.S. Competent Authority for Package Design—Reporting | 10 | 40 | 2 | 80
Register with U.S. Competent Authority as User of a Package—Reporting | 25 | 50 | 0.5 | 25
Request for a U.S. Competent Authority as Required by the IAEA Regulations for Special Form—Reporting | 10 | 100 | 2 | 200

Affected Public: Shippers and carriers of radioactive materials in commerce.

Annual Reporting and Recordkeeping Burden:

Number of Respondents: 320.

Total Annual Responses: 2,915.

Total Annual Burden Hours: 15,347.

Frequency of Collection: On occasion.

Title: Subsidiary Hazard Class and Number/Type of Packagings.

OMB Control Number: 2137-0613.

Summary: This OMB Control Number contains an information collection related to the placement of the subsidiary hazard class and type of packaging on a shipping paper. The HMR require that shipping papers and emergency response information accompany each shipment of hazardous materials in commerce. Shipping papers serve as a principal means of identifying hazardous materials during transportation emergencies. Firefighters, police, and other emergency response personnel are trained to obtain the DOT shipping papers and emergency response information when responding to hazardous materials transportation emergencies. The availability of accurate information concerning hazardous materials being transported significantly improves response efforts in these types of emergencies.

In addition to the basic shipping description information on shipping papers, we also require the subsidiary hazard class or subsidiary division number(s) to be entered in parentheses following the primary hazard class or division number on shipping papers. This requirement originally applied only to transportation by vessel. However, the lack of such a requirement posed problems for motor carriers regarding compliance with segregation, separation, and placarding requirements, as well as posing a safety hazard. For example, in the event the motor vehicle becomes involved in an accident, when the hazardous materials being transported include a subsidiary hazard such as “dangerous when wet” or a subsidiary hazard requiring more stringent requirements than the primary hazard, there is no indication of the subsidiary hazards on the shipping papers and no indication of the subsidiary risks on placards. Under circumstances such as motor vehicles being loaded at a dock, labels are not sufficient to alert hazardous materials employees loading the vehicles, nor are they sufficient to alert emergency responders of the subsidiary risks contained on the vehicles. Therefore, we require the subsidiary hazard class or subsidiary division number(s) to be entered on the shipping paper for purposes of enhancing safety and international harmonization. The following information collection and burden is associated with this OMB Control Number:

Information collection | Respondents | Total annual responses | Seconds per response | Total annual burden hours
Subsidiary Hazard Class on Shipping Papers | 260,000 | 43,810,000 | 2 | 24,339

Affected Public: Shippers and carriers of hazardous materials in commerce.

Annual Reporting and Recordkeeping Burden:

Number of Respondents: 260,000.

Total Annual Responses: 43,810,000.

Total Annual Burden Hours: 24,339.

Frequency of Collection: On occasion.

Title: Flammable Hazardous Materials by Rail Transportation.

OMB Control Number: 2137-0628.

Summary: This OMB control number contains information collections used for information and recordkeeping requirements pertaining to the sampling and testing certification, routing analysis, and incident reporting for flammable liquids by rail transportation. Rail carriers, shippers, PHMSA's Office of Hazardous Materials Safety (OHMS), the Federal Railroad Administration (FRA), and the Association of American Railroads (AAR) may use this information to ensure that rail tank cars transporting flammable liquids are properly classified, ensure trains are routed appropriately, and collect all relevant incident data. The following information collections and associated burden hours are associated with this OMB Control Number:

Information collection | Respondents | Responses | Hours per response | Total hours
Sampling and Testing Plan Burden for Subsequent Year Revision | 1,801 | 1,801 | 10 | 18,010
Routing—Collection by Segment for Class II Railroads | 10 | 10 | 40 | 400
Routing—Collection by Segment for Class III Railroads | 160 | 160 | 40 | 6,400
Routing Analysis Burden for Class II Railroads | 10 | 50 | 16 | 800
Routing Analysis Burden for Class III Railroads | 160 | 320 | 8 | 2,560
Routing Security Analysis Burden for Class II Railroads | 10 | 40 | 12 | 480
Routing Security Analysis Burden for Class III Railroads | 64 | 32 | 4 | 128
Tank Car Retrofit Burden | 50 | 50 | 0.5 | 25
Incident Reporting for Flammable Liquids by Rail | 17 | 17 | 2 | 34
Oil Spill Response Plans—Submit Reports | 73 | 14.6 | 0.5 | 7.3
Oil Spill Response Plan—Class I | 7 | 7 | 162 | 1,134
Oil Spill Response Plan—Class II | 11 | 11 | 54 | 594
Oil Spill Response Plan—Class III | 55 | 55 | 36 | 1,980
Notification Plans—Maintenance | 73 | 2,190 | 1 | 2,190
Notification Plans—DOT Request | 73 | 15.33 | 1 | 15.33

Affected Public: Shippers and carriers of petroleum liquids transported by rail.

Annual Reporting and Recordkeeping Burden:

Number of Respondents: 2,574.

Total Annual Responses: 4,773.

Total Annual Burden Hours: 34,757.

Frequency of Collection: On occasion.

Issued in Washington, DC, on March 4, 2025 under authority delegated in 49 CFR 1.97.
T Glenn Foster,
Chief, Regulatory Review and Reinvention Branch, Office of Hazardous Materials Safety, Pipeline and Hazardous Materials Safety Administration.

[FR Doc. 2025-03737 Filed 3-7-25; 8:45 am]

BILLING CODE 4910-60-P